FEDERAL MARITIME COMMISSION

Notice of Agreement Filed

The Commission hereby gives notice of the filing of the following agreement under the Shipping Act of 1984. Interested parties may submit comments, relevant information, or documents regarding the agreement to the Secretary by email at Secretary@fmc.gov, or by mail, Federal Maritime Commission, Washington, DC 20573. Comments will be most helpful to the Commission if received within 12 days of the date this notice appears in the Federal Register. Copies of agreement are available through the Commission's website (www.fmc.gov) or by contacting the Office of Agreements at (202)-523-5793 or tradeanalysis@fmc.gov.

Agreement No.: 008005-015.

Title: New York Terminal Conference Agreement.

Parties: APM Terminals Elizabeth, LLC; Port Newark Container Terminal; GCT Bayonne LP; Red Hook Container Terminal, LLC; and GCT New York LP.

Filing Party: Gerald A. Morrissey III; Holland & Knight.

Synopsis: The amendment adds Gerald A. Morrissey III as an authorized agent for the Agreement.

Proposed Effective Date: 10/19/2021.

Location: https://www2.fmc.gov/FMC.Agreements.Web/Public/AgreementHistory/14242.

Dated: October 22, 2021.
Rachel E. Dickon,
Secretary.

[FR Doc. 2021-23385 Filed 10-26-21; 8:45 am]

BILLING CODE 6730-02-P